DEPARTMENT OF HEALTH AND HUMAN SERVICES

Centers for Disease Control and Prevention

[Program Announcement 02060]

National Cancer Prevention and Control Program: Notice of Availability of Funds; Amendment

A notice announcing the availability of Fiscal Year 2002 funds for cooperative agreements for the National Cancer Prevention and Control Program was published in the Federal Register on April 23, 2002, (67 FR 19932). The notice is amended as follows:

Page 19933, Column 1, Paragraph “C. Availability of Funds,” the following clarification is added: “Note: Awards under this program announcement will be on or about September 30, 2002 and will be made for a nine-month budget period for the first year which will end on June 29, 2003. As a result, the budget for the first year will reflect work for nine months, and subsequent years budgets will be for 12 months. As programs are funded on an annual basis, grantees under NCCCP and NBCCEDP may consider requesting additional funds in an amount equivalent to a 12-month award. The itemized budget for the first year must include a description and justification for the request. Breast and Cervical Cancer Programs are cautioned that the request must comply with the 60/40 distribution required under the program. This statement does not apply to NPCR programs since 3 month cost extensions under current grants for the period July 1, 2002 through September 29, 2002 were already funded with current year funding.”

Page 19933, Column 1, continuation of “Eligible Applicants” Section “B.2.a NCCP” is amended to read: “Federally recognized Indian Tribal governments and Tribal organizations, urban Indian organizations and inter-tribal consortia (hereafter referred to as Tribes) whose primary purpose is to improve American Indian/Alaska Native health and which represent the Native population in their catchment area.”

Page 19939, Column 2, Section “H.2. Availability of Funds” is amended to add: “Pending availability of funds, each year of the project period for this overall program announcement (September 30, 2002 to June 29, 2007) will incorporate an open season for competitive applications for the NBCCEDP component with applications due on or about February 28th. (Specific guidance with exact dates, will be provided in future years.) At that time, eligible applicants may apply.”

Page 19940, Columns 2 and 3, under Section “H.3.a. Recipient Activities” is amended to add: Section H.3a(6) “If funded to provide WISEWOMAN services to NBCCEDP clients, work collaboratively across programs to ensure that each program is maximally effective and supportive of the other.”

Page 19943, Column 1, Section “H.4.a.(8)(k), paragraph 2”, is amended to read: In addition, programs must provide the CPT codes and schedule of fees for breast and cervical cancer screening and diagnostic services to be used by the program. In States/Tribes/Territories where there are multiple Medicare rates and a single reimbursement rate is proposed, the applicant must provide justification for approval.”

Page 19943, Column 3, Section I.2. Availability of Funds is amended to add: “Pending availability of funds, each year of the project period for this overall program announcement (September, 30, 2002 to June 29, 2007) will incorporate an open season for competitive applications for the NPCR component with applications due on or about February 28th. (Specific guidance with exact dates will be provided in future years.) At that time, eligible applicants may apply for Part I Enhancement or Part II Planning dollars but not both.”

Page 19945, Column 1, continuation of Section I.3.a.(2) (1st sentence) is amended to read: “published in “Standards for Cancer Registries”, Volume II, North American Association of Central Cancer Registries (NAACCR), Spring 2002 (NAACCR record layout version 9.1).”

Page 19947, Column 2, Section “I.4.a.(7) Operational Plan” is deleted. Clarification added: “Applications should address Section I.4.a.(9) Workplan.”

Page 19947, Column 3, Section I.4.a(9)(g) is deleted. Clarification added: “Applications should address Section I.4.a.(5) Management and Staffing Plan.”

Page 19949, Column 3, Section J.2.(a) is amended to add: AAR-8”.

Page 19949, Column 3, Section J.2.(b) is amended to delete: AAR-2”.

Page 19949, Column 3, Section J.2.(c) is amended to delete: AAR-2”.

The following clarification is for information that appeared only on the CDC website. See www.cdc.gov “Funding Opportunities.”

Attachment D—Screening Projections Matrix in the Appendices

The title of the second matrix is amended to read: “Number of Women to be Screened in FY 2002-2003 by Characteristics.”

Dated: May 17, 2002.
Edward Schultz,
Acting Director, Procurement and Grants Office, Centers for Disease Control and Prevention.

[FR Doc. 02-12933 Filed 5-22-02; 8:45 am]

BILLING CODE 4163-18-P